DEPARTMENT OF HOUSING AND URBAN DEVELOPMENT

[Docket No. FR-5831-N-52]

30-Day Notice of Proposed Information Collection: Promise Zones

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: November 27, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on August 17, 2015 at 80 FR 49263.

A. Overview of Information Collection

Title of Information Collection: Promise Zones.

OMB Approval Number: 2506-0209.

Type of Request: Revision of a currently approved collection.

Form Number: None.

Description of the need for the information and proposed use: Under the Promise Zones initiative, the federal government will invest and partner with high-poverty urban, rural, and tribal communities to create jobs, increase economic activity, improve educational opportunities, leverage private investment, and reduce violent crime. Additional information about the Promise Zones initiative can be found at www.hud.gov/promisezones, and questions can be addressed to promisezones@hud.gov. This notice estimates burden for applying for the designation.

Respondents (i.e. affected public): Local or Tribal Governments.

Information collection | Number of respondents | Frequency of response | Responses per annum | Burden hour per response | Annual burden hours | Hourly cost per response | Annual cost
Section I—Executive Summary | 300 | 1 | 1 | 3 | 900 | $40 | $36,000
Section II—Abstract | 300 | 1 | 1 | 3 | 900 | 40 | 36,000
Section II—Community Eligibility Criteria and Local Leadership Support Documentation | 300 | 1 | 1 | 4 | 1200 | 40 | 48,000
Section III—Need | 300 | 1 | 1 | 1 | 300 | 40 | 12,000
Section IV—Strategy Part A (Needs and Assets Assessment) | 300 | 1 | 1 | 3 | 900 | 40 | 36,000
Section IV—Strategy Part B (Plan) | 300 | 1 | 1 | 6 | 1800 | 40 | 72,000
Section IV—Strategy Part C (Sustainability and Financial Feasibility) | 300 | 1 | 1 | 3 | 900 | 40 | 36,000
Section IV—Strategy Part D (Resident Engagement Strategy) | 300 | 1 | 1 | 3 | 900 | 40 | 36,000
Section V—Capacity and Local Commitment Part A (Partnership Structure and Commitment) | 300 | 1 | 1 | 6 | 1800 | 40 | 72,000
Section V—Capacity and Local Commitment Part B (Capacity of Lead Applicant) | 300 | 1 | 1 | 6 | 1800 | 40 | 72,000
Section V—Capacity and Local Commitment Part C (Capacity of Implementation Partner Organizations) | 300 | 1 | 1 | 6 | 1800 | 40 | 72,000
Section V—Capacity and Local Commitment Part D (Data and Evaluation Capacity) | 300 | 1 | 1 | 3 | 900 | 40 | 36,000
Section V—Capacity and Local Commitment Part E (Resident Engagement Capacity) | 300 | 1 | 1 | 3 | 900 | 40 | 36,000
Section V—Capacity and Local Commitment Part F (Strength & Extent of Gov. Commitment) | 300 | 1 | 1 | 3 | 900 | 40 | 36,000
Goals and Activities Template | 300 | 1 | 1 | 9 | 2700 | 40 | 96,000
Total | 300 | 1 | 1 | 2 | 18600 | 40 | 744,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: 12 U.S.C. 1701z-1 Research and Demonstrations.

Dated: October 21, 2015.
Colette Pollard,
Department Reports Management Officer, Office of the Chief Information Officer.

[FR Doc. 2015-27341 Filed 10-26-15; 8:45 am]

BILLING CODE 4210-67-P